DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF) as follows: Chapter KR, the Office of Refugee Resettlement (ORR) [63 FR 42050], as last amended, August 6, 1998. This notice reflects the realigning of functions within the Office of Refugee Resettlement and the establishment of a new Division.

These Chapters are amended as follows:

KR.00 Mission. Delete in its entirety and replace with the following:

KR.00 Mission. The Office of Refugee Resettlement (ORR) advises the Secretary, through the Assistant Secretary for Children and Families, on matters relating to refugee resettlement, immigration, victims of severe forms of trafficking in persons, victims of torture, and repatriation of U.S. citizens. The Office plans, develops and directs implementation of a comprehensive program for domestic refugee and entrant resettlement assistance. The Office also plans, develops and provides direction on the administration of the U.S. Repatriate Program. It develops, recommends, and issues program policies, procedures and interpretations to provide program direction. The Office monitors and evaluates the performance of States and other public and private agencies in administering these programs and supports actions to improve them. It provides leadership and direction in the development and coordination of national public and private programs that provide assistance to refugees, asylees, Cuban and Haitian entrants, and certain Amerasians and victims of severe forms of trafficking in persons.

A. KR.10 Organization. Delete in its entirety and replace with the following:

KR.10 Organization. The Office of Refugee Resettlement is headed by a Director who reports directly to the Assistant Secretary for Children and Families and consists of:

Office of the Director (KRA)

Division of Refugee Assistance (KRE)

Division of Community Resettlement (KRF)

Division of Budget, Policy and Data Analysis (KRG)

B. Delete KR.20 Functions, Paragraph A, Office of the Director in its entirety and replace with following:

KR.20 Functions. A. The Office of the Director is directly responsible to the Assistant Secretary for Children and Families for carrying out ORR's mission and providing guidance and general supervision to the components of ORR. The Office provides direction in the development of program policy and budget and in the formulation of salaries and expense budgets. Staff also provide administrative and personnel support services. The Office is responsible for implementing certain provisions of the Trafficking Victims Protection Act.

The Office coordinates with the lead refugee and entrant program offices of other federal departments; provides leadership in representing refugee and entrant programs, policies and administration to a variety of governmental entities and other public and private interests; and acts as the coordinator of the total refugee and entrant resettlement effort for ACF and the Department. The Office coordinates the certification of, and services to, victims of severe forms of trafficking. It also coordinates with other Federal government agencies on certification activities and policy issues related to the trafficking law.

C. Delete KR.20 Functions, Paragraph B, the Division of Refugee Self-Sufficiency in its entirety and replace with the following:

B. The Division of Refugee Assistance provides direction for assuring that refugees are provided assistance and services through the State-administered program and alternative programs such as the Wilson/Fish projects in a manner that helps refugees to become employed and economically self-sufficient as soon after their arrival in the United States as possible. The Division monitors and provides technical assistance to the State-administered domestic assistance programs and Wilson/Fish projects. The Division develops guidance and procedures for their implementation; manages special initiatives to increase refugee self-sufficiency such as through demonstration or pilot programs; and manages the unaccompanied minors program to ensure that refugee and entrant unaccompanied minors are provided appropriate care and services. The Division ensures the quality of medical screening and initial medical treatment of refugees. The Division also assists public and private agencies on data reporting and the resolution of reporting problems.

D. Amend KR.20 Functions to add the following new paragraph:

D. The Division of Budget, Policy and Data Analysis manages the allocation and tracking of funds for refugee cash and refugee medical assistance and State administrative costs; prepares annual budget estimates and related materials; and develops regulations, legislative proposals, and routine interpretations of policy regarding the State-administered and alternative programs. The Division collects data and performs analyses on the changing needs of the refugee and entrant population; provides leadership to identify data needs and sources, and formulates data and reporting requirements.

E. Delete KR.20 Functions, Paragraph C, Division of Community Resettlement, in its entirety and replace with the following:

C. The Division of Community Resettlement directs and manages effective refugee resettlement through the programmatic implementation of grants, contracts and special initiatives, such as the Voluntary Agency Program, associated with national discretionary activity. The Division oversees and monitors most ORR discretionary grants; recommends grantee allocations, coordinates with the grants management office to review the financial expenditures under discretionary grant programs; provides data in support of apportionment requests; and provides technical assistance on discretionary grants operations. The Division coordinates and provides liaison with the Department and other Federal agencies on discretionary grant operational issues and other activities as specified by the Director or required by Congressional mandate; assists private agencies on data reporting and the resolution of reporting problems; compiles, evaluates, and disseminates information on refugee service programs; responds to unanticipated refugee and entrant arrivals or significant increases in arrivals to communities where adequate or appropriate services do not exist; strengthens the role of ethnic community national or multi-State organizations to promote economic independence among refugees; provides for English language training and provides where specific needs have been shown and recognized by the Director for health (including mental health) services, social services, educational and other services.

The Division develops Repatriation plans to make arrangements and approve payments for temporary assistance to certain U.S. citizens and dependents repatriated from foreign countries, and for the hospitalization of certain U.S. Nationals repatriated because of mental illness.

Dated: July 8, 2002.
Wade F. Horn,
Assistant Secretary for Children and Families.

[FR Doc. 02-17606 Filed 7-12-02; 8:45 am]

BILLING CODE 4184-01-P